DEPARTMENT OF HOMELAND SECURITY

Transportation Security Administration

Intent To Request Renewal From OMB of One Current Public Collection of Information: Baseline Assessment for Security Enhancement (BASE) Program

AGENCY: Transportation Security Administration, DHS.

ACTION: 60-day notice.

SUMMARY: The Transportation Security Administration (TSA) invites public comment on one currently approved Information Collection Request (ICR), Office of Management and Budget (OMB) control number 1652-0062 abstracted below that we will submit to OMB for revision in compliance with the Paperwork Reduction Act (PRA). TSA has combined two previously-approved ICRs (1652-0061 and 1652-0062) into this single request to simplify the collection, increase transparency, and reduce duplicative efforts. TSA assesses the current security practices in the transit and passenger rail and highway and motor carrier industries by way of its Baseline Assessment for Security Enhancement (BASE) program, which encompasses site visits and interviews, and is part of the larger domain awareness, prevention, and protection program supporting TSA's and the Department of Homeland Security's (DHS) missions. This voluntary collection allows TSA to conduct transportation security-related assessments during site visits with surface transportation security and operating officials.

DATES: Send your comments by April 13, 2015.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and re-approval of the following voluntary information collection, TSA is soliciting comments to—

(1) Evaluate whether the proposed information request is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Under the Aviation and Transportation Security Act (ATSA) and delegated authority from the Secretary of Homeland Security, TSA has broad responsibility and authority for “security in all modes of transportation including security responsibilities over modes of transportation that are exercised by the Department of Transportation.” ¹ TSA is required to “assess the security of each surface transportation mode and evaluate the effectiveness and efficiency of current Federal Government surface transportation security initiatives.” E.O. 13416, sec. 3(a) (Dec. 5, 2006). TSA is also specifically empowered to develop policies, strategies, and plans for dealing with threats to transportation,² ensure the adequacy of security measures for the transportation of cargo,³ oversee the implementation and ensure the adequacy of security measures at transportation facilities,⁴ and carry out other appropriate duties relating to transportation security.⁵

¹ See Public Law 107-71, 115 Stat. 597 (Nov. 19, 2001), codified at 49 U.S.C. 114(d). The TSA Administrator's current authorities under ATSA have been delegated to him by the Secretary of Homeland Security. Section 403(2) of the Homeland Security Act (HSA) of 2002, Public Law 107-296, 116 Stat. 2315 (2002), transferred all functions of TSA, including those of the Secretary of Transportation and the Under Secretary of Transportation of Security related to TSA, to the Secretary of Homeland Security. Pursuant to DHS Delegation Number 7060.2, the Secretary delegated to the Assistant Secretary (now referred to as the Administrator of TSA), subject to the Secretary's guidance and control, the authority vested in the Secretary with respect to TSA, including that in sec. 403(2) of the HSA.

² 49 U.S.C. 114(f)(3).

³ 49 U.S.C. 114(f)(10).

⁴ 49 U.S.C. 114(f)(11).

⁵ 49 U.S.C. 114(f)(15).

TSA developed the Baseline Assessment for Security Enhancement (BASE) program in 2007, in an effort to engage with surface transportation entities to establish a “baseline” of security and emergency response operations. This program was initially created for Public Transportation (PT) BASE systems. However, based on the success of the program, TSA developed the Highway (HWY) BASE program in 2012, with full implementation in 2013. This voluntary program has served to evaluate and collect physical and operational preparedness information and critical assets and key point-of-contact lists. The program also reviews emergency procedures and domain awareness training, and provides an opportunity to share industry best practices.

While many public transportation systems have security and emergency response plans or protocols in place, there is no consistent approach to evaluating the extent to which security programs exist, nor the content of those programs. As a result, there also are no consistent data about these transportation security programs, nor a database that can be used to benchmark the programs. The BASE program is designed to address these issues.

Description of Data Collection

In carrying out the voluntary BASE program, TSA's Transportation Security Inspectors—Surface (TSIs-S) conduct BASE reviews during site visits with security and operating officials of transit (including transit bus) and passenger rail systems, trucking, school bus contractors, school districts, and motor coach companies throughout the United States, capturing and documenting relevant information on a standardized checklist. All BASE reviews are done on a voluntary basis and are not regulatory inspections. Advance coordination and planning ensures the efficiency of the assessment process. The TSIs-S review and analyze the public transportation and highway entities' security plan, if adopted, and determine if the mitigation measures included in the plan are being effectively implemented, while providing additional resources for further security enhancement. In addition to examining the security plan document, TSA reviews one or more assets of the public transportation and highway entities' system.

During BASE site visits of PT and HWY entities, TSIs-S collect information and complete a BASE checklist from the review PT and HWY entities' documents, plans, and procedures. They also interview appropriate PT and HWY entities personnel and conduct system observations prompted by questions raised during the document review and interview stages. TSA conducts the interviews to ascertain and clarify information on security measures and to identify security gaps. The interviews also provide TSA with a method to encourage the surface transportation entities participating in the BASE reviews to be diligent in effecting and maintaining security-related improvements.

This program provides TSA with real-time information on current security practices within the transit (including transit bus), passenger rail, trucking, school bus contractor, school district, and motor coach modes of the surface transportation sector. This information also allows TSA to adapt programs to the changing threat dynamically, while incorporating an understanding of the improvements surface transportation entities make in their security posture. Without this information, the ability of TSA to perform its security mission would be severely hindered. Additionally, the relationships these face-to-face contacts foster are critical to TSA's ability to reach out to the surface transportation entities participating in the BASE program.

If TSA determines information in a completed assessment constitutes Sensitive Security Information in accordance with 49 U.S.C. 114(r) and 49 CFR parts 15 and 1520, TSA will protect it in accordance with the requirements set forth in part 1520.

Use of Results

The information collected by TSA through BASE reviews helps to strengthen the security of PT and HWY entities' security programs by supporting security program development (including grant programs),⁶ and the analysis/evaluation provides a consistent road map for PT and HWY entities to address security and emergency program vulnerabilities. In addition, a PT or HWY entity that undergoes a BASE review is provided with a report of results that can be used by the system to identify and prioritize vulnerabilities and funding to enhance security. The BASE reviews also will align PT and HWY entities' security efforts with other TSA risk reduction efforts and provide industry partners corrective action options to consider by identifying security smart practices to share with others.

⁶ See United States Government Accountability Office (GAO) Report to Congressional Requesters, GAO-15-159, PUBLIC TRANSIT Federal and Transit Agencies Taking Steps to Build Transit Systems' Resilience but Face Challenges, December 2014, page 10. http://www.gao.gov/assets/670/667391.pdf. GAO reviewed transit systems' resilience to catastrophic events. The report examined (1) how DHS and the Department of Transportation help transit agencies make their systems resilient; (2) actions selected by transit agencies take to make their systems resilient; and (3) challenges transit agencies face with making their systems resilient.

Specifically, the information collected will be used:

1. To develop a baseline understanding of a PT and HWY entities' security and emergency management processes, procedures, policies, programs, and activities against security requirements and recommended security practices published by TSA.

2. To enhance a PT and HWY entities' overall security posture through collaborative review and discussion of existing security activities, identification of areas of potential weakness or vulnerability, and development of remedial recommendations and courses of action.

3. To identify programs and protocols implemented by PT and HWY entities that represent an “effective” or “smart” security practice warranting sharing with the transportation community as a whole to foster general enhancement of security in the transportation mode.

4. To inform TSA's development of security strategies, priorities, and programs for the most effective application of available resources, including funds distributed under the respective Federal grant programs, to enhance security within the Nation's surface transportation system.

While TSA has not set a limit on the number of BASE program reviews to conduct, TSA estimates it will conduct approximately 30 PT BASE reviews and approximately 60 HWY BASE reviews on an annual basis. TSA does not intend to conduct more than one BASE review per transit or passenger rail system in a single year. TSA estimates that the hour burden per PT entity to engage its security and/or operating officials with inspectors in the interactive BASE program review process is approximately 12 hours. Also, TSA estimates that the hour burden per HWY entity to engage its security and/or operating officials with inspectors in the interactive BASE program review process is approximately 5 hours. Thus, the total annual hour burden for the PT BASE program review is 360 hours annually (30 × 12 hours = 360 hours) and for HWY BASE 300 hours annually (60 × 5 hours = 300 hours).

Dated: February 5, 2015.
Christina A. Walsh,
TSA Paperwork Reduction Act Officer, Office of Information Technology.

[FR Doc. 2015-02829 Filed 2-10-15; 8:45 am]

BILLING CODE 91105-05-P